DEPARTMENT OF ENERGY

Federal Energy Regulatory Commission

Combined Notice of Filings #1

June 12, 2006.

Take notice that the Commission received the following electric corporate filings:

Docket Numbers: EC06-128-000.

Applicants: RockGen OL-4, LLC; RockGen OL-1, LLC, RockGen OL-2, LLC; RockGen OL-3, LLC; RockGen Energy, LLC.

Description: RockGen OL-1, LLC, RockGen OL-2, LLC, et al. submit their application for approval and expedited consideration under Section 203 of the Federal Power Act and Part 33 of the Regulations.

Filed Date: 5/26/2006.

Accession Number: 20060609-0113.

Comment Date: 5 p.m. Eastern Time on Friday, June 23, 2006.

Take notice that the Commission received the following electric rate filings:

Docket Numbers: ER98-2783-009; ER99-3822-008; ER00-3696-005; ER99-2602-005; ER96-1947-019; ER05-1266-003; ER98-2682-011; ER01-1619-008; ER02-443-007; ER98-2681-011; ER98-2680-011; ER99-1785-010.

Applicants: Bridgeport Energy LLC; Casco Bay Energy Company; Griffith Energy LLC; LSP-Kendall Energy, LLC; LS Power Marketing, LLC; Ontelaunee Power Operating Company, LLC; LSP Oakland, LLC; LSP Mohave, LLC; LSP Arlington Valley, LLC; LSP Morro Bay, LLC; LSP Moss Landing; LSP South Bay, LLC.

Description: Bridgeport Energy LLC et al., submit a notice of non-material change in status with respect to the characteristics that the Commission previously relied upon in granting market-based rate authority.

Filed Date: 6/2/2006.

Accession Number: 20060608-0623.

Comment Date: 5 p.m. Eastern Time on Friday, June 23, 2006.

Docket Numbers: ER06-194-001.

Applicants: Midwest Independent Transmission System Operator, Inc.

Description: Midwest Independent Transmission System Operator, Inc submits a Large Generator Interconnection Agreement with American Transmission Co., LLC in compliance with FERC's 1/9/06 Order.

Filed Date: 6/5/2006.

Accession Number: 20060608-0593.

Comment Date: 5 p.m. Eastern Time on Monday, June 26, 2006.

Docket Numbers: ER06-717-001.

Applicants: Southern California Edison Company.

Description: Southern California Edison Co. submits a compliance refund report pursuant to the Commission's Order issued 5/8/06.

Filed Date: 6/7/2006.

Accession Number: 20060609-0153.

Comment Date: 5 p.m. Eastern Time on Wednesday, June 28, 2006.

Docket Numbers: ER06-883-001.

Applicants: American Electric Power Service Corporation.

Description: American Electric Power Service Corp. as agent for its affiliate Indiana Michigan Power Co. submits an amendment to the second revised Interconnection and Local Delivery Service Agreement with Wabash Valley Association.

Filed Date: 6/7/2006.

Accession Number: 20060609-0152.

Comment Date: 5 p.m. Eastern Time on Wednesday, June 28, 2006.

Docket Numbers: ER06-1080-000.

Applicants: American Electric Power Service Corporation; Indiana Michigan Power Company.

Description: Indiana Michigan Power Co. submits a Cost-Based Formula Agreement for Full Requirements Electric Service (including Appendices A through C) dated 5/24/06 with the City of Sturgis, Michigan.

Filed Date: 6/2/2006.

Accession Number: 20060607-0098.

Comment Date: 5 p.m. Eastern Time on Friday, June 23, 2006.

Docket Numbers: ER06-1087-000.

Applicants: American Electric Power Service Corporation.

Description: American Electric Power Service Corp., agent for Michigan Power Co., submits an original interconnection & local delivery services agreement with the City of South Haven, MI.

Filed Date: 6/1/2006.

Accession Number: 20060612-0192.

Comment Date: 5 p.m. Eastern Time on Thursday, June 22, 2006.

Docket Numbers: ER06-1092-000.

Applicants: Westar Energy, Inc.

Description: Westar Energy, Inc. submits its Fourth Revised Sheet 11 of Rate Schedule 303 with Missouri Joint Municipal Electric Utility Commission.

Filed Date: 6/1/2006.

Accession Number: 20060608-0625.

Comment Date: 5 p.m. Eastern Time on Thursday, June 22, 2006.

Docket Numbers: ER06-1094-005.

Applicants: Baconton Power LLC.

Description: Baconton Power LLC. submits a request for waiver of FERC's OASIS-related standards of Order 676.

Filed Date: 5/26/2006.

Accession Number: 20060608-0595.

Comment Date: 5 p.m. Eastern Time on Friday, June 16, 2006.

Docket Numbers: ER06-1094-008.

Applicants: Fitchburg Gas and Electric Light Company; Unitil Energy Systems.

Description: Fitchburg Gas & Elec Light Co. and Unitil Energy Systems submit their request for a waiver of the Commission's Standards for Business Practices and Communication Protocols for Public Utilities pursuant to FERC's Order 676.

Filed Date: 6/1/2006.

Accession Number: 20060608-0588.

Comment Date: 5 p.m. Eastern Time on Thursday, June 22, 2006.

Docket Numbers: ER06-1094-009.

Applicants: California Independent System Operator Corporation.

Description: California Independent System Operator Corporation submits its Petition for renewal of waiver of certain OASIS business procedures pursuant to Rule 207 of FERC's Rules of Practice and Procedure.

Filed Date: 6/1/2006.

Accession Number: 20060608-0586.

Comment Date: 5 p.m. Eastern Time on Thursday, June 22, 2006.

Docket Numbers: ER06-1094-010.

Applicants: Long Sault Division of Alcoa Power Generating Inc.

Description: Long Sault Division of Alcoa Power Generating, Inc. submits its requests for the Commission to extend its consideration of waiver of the OASIS requirements for the MAL Transmission Lines etc. pursuant to Order 676.

Filed Date: 6/1/2006.

Accession Number: 20060608-0585.

Comment Date: 5 p.m. Eastern Time on Thursday, June 22, 2006.

Docket Numbers: ER06-1099-001.

Applicants: Midwest Independent Transmission System Operator, Inc.

Description: The Midwest Independent Transmission System Operator, Inc. submits an amendment to its 6/5/06 filing, proposed revisions to its OAT&EM Tariff, FERC Electric Tariff, Volume 1.

Filed Date: 6/7/2006.

Accession Number: 20060609-0154.

Comment Date: 5 p.m. Eastern Time on Wednesday, June 28, 2006.

Docket Numbers: ER06-1101-000.

Applicants: Tampa Electric Company.

Description: Tampa Electric Co. submits Service Schedules AF, BF and DF for inclusion in its Rate Schedule and proposed charges for the services under these schedules.

Filed Date: 6/5/2006.

Accession Number: 20060608-0594.

Comment Date: 5 p.m. Eastern Time on Monday, June 26, 2006.

Docket Numbers: ER06-1114-000.

Applicants: MidAmerican Energy Company.

Description: MidAmerican Energy Co. submits a Network Operating and Interconnection Agreement with the Municipal Electric Utility of City of Cedar Falls, Iowa dated 6/6/06.

Filed Date: 6/7/2006.

Accession Number: 20060609-0157.

Comment Date: 5 p.m. Eastern Time on Wednesday, June 28, 2006.

Docket Numbers: ER06-1115-000.

Applicants: American Electric Power Service Corporation.

Description: American Electric Power Service Corp. on behalf of Appalachian Power Service Co et al submits revisions to the Annual Transmission Rates—AEP East Operating Companies for Network Integration Transmission Service.

Filed Date: 6/7/2006.

Accession Number: 20060609-0156.

Comment Date: 5 p.m. Eastern Time on Wednesday, June 28, 2006.

Docket Numbers: ER06-1116-000.

Applicants: ISO New England Inc.; New England Power Pool Participants Committee.

Description: ISO New England, Inc. and the New England Power Pool Participants Committee submit revisions to Market Rule 1 of its Tariff at Section 3.

Filed Date: 6/7/2006.

Accession Number: 20060609-0155.

Comment Date: 5 p.m. Eastern Time on Wednesday, June 28, 2006.

Docket Numbers: ER06-1117-000.

Applicants: Indiana Michigan Power Company; American Electric Power Service Corporation.

Description: Indiana Michigan Power Co. submits a Cost-Based Formula Rate Agreement (FERC Electric Rate Schedule 103) for Full Requirements Electric Service with the City of New Carlisle, Indiana.

Filed Date: 6/7/2006.

Accession Number: 20060609-0200.

Comment Date: 5 p.m. Eastern Time on Wednesday, June 28, 2006.

Take notice that the Commission received the following electric securities filings:

Docket Numbers: ES06-51-000.

Applicants: Southwest Power Pool, Inc.

Description: Southwest Power Pool, Inc. submits its application under section 204 of the Federal Power Act for an Order authorizing the Issuance of Securities.

Filed Date: 5/26/2006.

Accession Number: 20060609-0044.

Comment Date: 5 p.m. Eastern Time on Friday, June 16, 2006.

Docket Numbers: ES06-52-000.

Applicants: Indianapolis Power & Light Company.

Description: Indianapolis Power & Light Company submit its application under section 204 of the Federal Power Act for an order authorizing the issuance of short-term instruments.

Filed Date: 6/9/2006.

Accession Number: 20060609-5027.

Comment Date: 5 p.m. Eastern Time on Friday, June 30, 2006.

Take notice that the Commission received the following foreign utility company status filings:

Docket Numbers: FC06-7-000.

Applicants: EPCOR Transmission Inc.; EPCOR Energy Inc.; EPCOR Distribution, Inc.; EPCOR Energy Alberta Inc.; EPCOR Utilities Inc.

Description: EPCOR Energy Inc., EPCOR Energy Alberta Inc., et al., submit a self-certification of foreign utility status application, pursuant to sections 366.1 and 366.7(a) of the Commission's Regulations.

Filed Date: 6/9/2006.

Accession Number: 20060609-5043.

Comment Date: 5 p.m. Eastern Time on Friday, June 30, 2006.

Take notice that the Commission received the following public utility holding company filings:

Docket Numbers: PH06-71-000.

Applicants: Questar Corporation.

Description: Questar Corp submits its 65A-Exemption Notification from requirements of PUHCA of 2005.

Filed Date: 6/2/2006.

Accession Number: 20060601-5088.

Comment Date: 5 p.m. Eastern Time on Friday, June 23, 2006.

Docket Numbers: PH06-72-000.

Applicants: Questar Corporation.

Description: Questar Corporation submits its 65B-Waiver Notification from requirements PUCHA Act 2005.

Filed Date: 6/2/2006.

Accession Number: 20060601-5089.

Comment Date: 5 p.m. Eastern Time on Friday, June 23, 2006.

Docket Numbers: PH06-73-000.

Applicants: C&T Enterprises, Inc.

Description: C&T Enterprises, Inc. submits its notification of Exemption From Or, In The Alternative, Notification of Waiver of PUHCA 2005 Compliance Obligations.

Filed Date: 6/2/2006.

Accession Number: 20060602-5023.

Comment Date: 5 p.m. Eastern Time on Friday, June 23, 2006.

Docket Numbers: PH06-74-000.

Applicants: NWO Resources, Inc.

Description: NOW Resources, Inc. submits its notification of Exemption Form or, in the Alternative, Notification of Waiver of the PUHCA 2005 Compliance Obligations.

Filed Date: 6/2/2006.

Accession Number: 20060602-5038.

Comment Date: 5 p.m. Eastern Time on Friday, June 23, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-9760 Filed 6-20-06; 8:45 am]

BILLING CODE 6717-01-P